DEPARTMENT OF TRANSPORTATION

Federal Aviation Administration

14 CFR Part 39

[Docket No. 2002-NM-332-AD; Amendment 39-14158; AD 2005-13-21]

RIN 2120-AA64

Airworthiness Directives; Cessna Model 650 Airplanes

AGENCY: Federal Aviation Administration (FAA), Department of Transportation (DOT).

ACTION: Final rule.

SUMMARY: This amendment adopts a new airworthiness directive (AD), applicable to all Cessna Model 650 airplanes, that requires inspecting to determine the part number of the actuator control unit (ACU) and replacing the ACU with a new, improved ACU if necessary. This AD also requires revising the Limitations section of the airplane flight manual. The actions specified by this AD are intended to prevent uncommanded movement of the horizontal stabilizer, which could result in reduced controllability of the airplane. This action is intended to address the identified unsafe condition.

DATES: Effective July 29, 2005.

The incorporation by reference of certain publications listed in the regulations is approved by the Director of the Federal Register as of July 29, 2005.

ADDRESSES: The service information referenced in this AD may be obtained from Cessna Aircraft Co., P.O. Box 7706, Wichita, Kansas 67277. This information may be examined at the Federal Aviation Administration (FAA), Transport Airplane Directorate, Rules Docket, 1601 Lind Avenue, SW., Renton, Washington; or at the FAA, Wichita Aircraft Certification Office, 1801 Airport Road, Room 100, Mid-Continent Airport, Wichita, Kansas.

FOR FURTHER INFORMATION CONTACT: Robert P. Busto, Aerospace Engineer, Systems and Propulsion Branch, ACE-116W, FAA, Wichita Aircraft Certification Office, 1801 Airport Road, Room 100, Mid-Continent Airport, Wichita, Kansas 67209; telephone (316) 946-4157; fax (316) 946-4107.

SUPPLEMENTARY INFORMATION: A proposal to amend part 39 of the Federal Aviation Regulations (14 CFR part 39) to include an airworthiness directive (AD) that is applicable to all Cessna Model 650 airplanes was published as a supplemental notice of proposed rulemaking (NPRM) in the Federal Register on April 22, 2005 (70 FR 20844). That action proposed to require inspecting to determine the part number of the actuator control unit (ACU) and replacing the ACU with a new, improved ACU if necessary. That action also proposed to require revising the Limitations section of the airplane flight manual.

Comments

Interested persons have been afforded an opportunity to participate in the making of this amendment. We did not receive any comments on the proposed AD.

Conclusion

After careful review of the available data, the FAA has determined that air safety and the public interest require the adoption of the rule as proposed.

Cost Impact

There are approximately 357 airplanes of the affected design in the worldwide fleet. The FAA estimates that 285 airplanes of U.S. registry will be affected by this AD.

We estimate that it will take approximately 2 work hours per airplane to replace the ACU, and that the average labor rate is $65 per work hour. Required parts will cost approximately $3,000 per airplane, if the ACU is exchanged. Based on these figures, the cost impact of the AD on U.S. operators is estimated to be $892,050, or $3,130 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. As a result, the costs attributable to the proposed AD may be less than stated above.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the National Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-13-21 Cessna Aircraft Company: Amendment 39-14158. Docket 2002-NM-332-AD.

Applicability: All Model 650 airplanes, certificated in any category.

Compliance: Required as indicated, unless accomplished previously.

To prevent uncommanded movement of the horizontal stabilizer, which could result in reduced controllability of the airplane, accomplish the following:

Inspection and Replacement if Necessary

(a) Within 12 months after the effective date of this AD, inspect to determine the part number (P/N) of the actuator control unit (ACU), in accordance with the Accomplishment Instructions of Cessna Service Bulletin SB 650-27-53, dated March 11, 2004. If an ACU having P/N 9914197-7 is installed on the airplane, then no further action is required by this paragraph. If an ACU having P/N 9914197-3 or P/N 9914197-4 is installed on the airplane, replace the existing ACU with a new, improved ACU having P/N 9914197-7, in accordance with the service bulletin. Although the service bulletin specifies to submit certain information to the manufacturer, this AD does not include that requirement.

Airplane Flight Manual (AFM) Revision

(b) Within 1 month after the effective date of this AD or concurrently with the replacement required by paragraph (a) of this AD, whichever is first: Revise the Limitations and Normal Procedures sections of the AFM by inserting into the AFM a copy of all the applicable Cessna temporary revisions (TRs) listed in Table 1 of this AD.

Note 1: When a statement identical to that in the applicable TR(s) listed in Table 1 of this AD has been included in the general revisions of the AFM, the general revisions may be inserted into the AFM, and the copy of the applicable TR may be removed from the AFM.

Table 1.—AFM Revision
Applicable model 650 airplanes | Cessna TR(s)
Citation III, S/Ns 0001 through 0199 inclusive, and 0203 through 0206 inclusive; equipped with Honeywell SPZ-8000 integrated avionics system | 65C3FM TC-R02-01, dated May 12, 2004; and 65C3FM TC-R02-06, dated August 11, 2004.
Citation III, S/Ns 0001 through 0199 inclusive, and 0203 through 0206 inclusive; not equipped with Honeywell SPZ-8000 integrated avionics system | 65C3FM TC-R02-01, dated May 12, 2004; and 65C3FM TC-R02-07, dated August 11, 2004.
Citation VI, S/Ns 0200 through 0202 inclusive, and 0207 and subsequent | 65C6FM TC-R04-01, dated May 12, 2004; and 65C6FM TC-R04-06, dated August 11, 2004.
Citation VII, S/Ns 7001 and subsequent | 65C7FM TC-R10-01, dated May 12, 2004.
Citation VII, S/Ns 7001 and subsequent, equipped with Honeywell SPZ-8000 integrated avionics system | 65C7FM TC-R10-07, dated August 11, 2004.

Parts Installation

(c) As of the effective date of this AD, no person may install an ACU having P/N 9914197-3 or -4, on any airplane.

Alternative Methods of Compliance

(d) In accordance with 14 CFR 39.19, the Manager, Wichita Aircraft Certification Office, FAA, is authorized to approve alternative methods of compliance for this AD.

Incorporation by Reference

(e) Unless otherwise specified in this AD, the actions must be done in accordance with the service information listed in Table 2 of this AD. This incorporation by reference was approved by the Director of the Federal Register in accordance with 5 U.S.C. 552(a) and 1 CFR part 51. To get copies of this service information, contact Cessna Aircraft Co., P.O. Box 7706, Wichita, Kansas 67277. To inspect copies of this service information, go to the FAA, Transport Airplane Directorate, 1601 Lind Avenue, SW., Renton, Washington; or to the FAA, Wichita Aircraft Certification Office, 1801 Airport Road, Room 100, Mid-Continent Airport, Wichita, Kansas; or to the National Archives and Records Administration (NARA). For information on the availability of this material at the NARA, call (202) 741-6030, or go to http://www.archives.gov/federal_register/code_of_federal_regulations/ibr_locations.html.

Table 2.—Material Incorporated by Reference
Cessna Service Information | Date
Service Bulletin SB 650-27-53 | March 11, 2004.
Temporary Revision 65C3FM TC-R02-01 | May 12, 2004.
Temporary Revision 65C3FM TC-R02-06 | August 11, 2004.
Temporary Revision 65C3FM TC-R02-07 | August 11, 2004.
Temporary Revision 65C6FM TC-R04-01 | May 12, 2004.
Temporary Revision 65C6FM TC-R04-06 | August 11, 2004.
Temporary Revision 65C7FM TC-R10-01 | May 12, 2004.
Temporary Revision 65C7FM TC-R10-07 | August 11, 2004.

Effective Date

(f) This amendment becomes effective on July 29, 2005.

Issued in Renton, Washington, on June 14, 2005.
Kevin M. Mullin,
Acting Manager, Transport Airplane Directorate, Aircraft Certification Service.

[FR Doc. 05-12306 Filed 6-23-05; 8:45 am]

BILLING CODE 4910-13-P